DEPARTMENT OF AGRICULTURE

Forest Service

Notice of Proposed New Fee Sites

AGENCY: Uinta-Wasatch-Cache National Forest, USDA Forest Service, Department of Agriculture.

ACTION: Notice of proposed new fee sites.

SUMMARY: The Uinta-Wasatch-Cache National Forest is proposing to add eleven cabins to the recreation rental program and charge fees for the overnight rental of these facilities. The cabins and proposed fee structure include:

(1) Payson Lakes Cabin, available from June 1 to September 30 at $125 per night. The cabin can accommodate up to 10 people and has running water, flush toilets, shower, electric heat, and electric appliances.

(2) Card Guard Station, available from June 1 through October 15 at $125 per night. The cabin can accommodate up to 10 people and has running water, flush toilet, shower, electricity and modern appliances.

(3) Current Creek Work Center, available from June 1 through October 15 at $200 per night. The cabin is a duplex that can accommodate up to 14 people. There are also three trailer pads with hookups. The cabin has running water, flush toilets, electricity and modern appliances.

(4) Rice Creek Field Station, available from June 1 through October 1 at $100 per night. The cabin can accommodate up to 10 people and has running water, flush toilet, shower, propane cook stove, electric lights and modern appliances.

(5) Mirror Lake Guard Station, available from July 1 through September 15 at $100 per night. The cabin can accommodate up to four people and has running water, shower, flush toilets, propane heat, and propane lights and appliances.

(6) Mill Hollow Guard Station, available from June 1 through September 30 at $100 per night. The cabin can accommodate up to eight people and has running water, shower, flush toilets, wood stove, and propane lights and appliances.

(7) Tony Grove Guard Station, available year-round at $85 per night. The cabin can accommodate up to four people and has running water (summer only), pit toilet, propane heat, and extra space for camping.

(8) Monte Cristo Guard Station, available from year-round at $85 per night. The cabin can accommodate up to eight people and has running water (summer only), flush toilets, shower, propane heat, and propane lights and appliances.

(9) Ledgefork Guard Station, available from June 1 through September 30 at $85 per night. The cabin can accommodate up to six people and has running water, flush toilets, shower, propane heat, and electric lights and appliances. Electricity to appliances is provided by a generator.

(10) Blacksmith Fork Guard Station, available year-round at $75 per night. The cabin can accommodate up to six people and has a vault toilet, wood stove, and propane lights and appliances.

(11) Diamond Fork Guard Station, available year-round at $50 per night. The cabin can accommodate up to eight people and has a vault toilet, wood stove, and propane lights and appliances.

Fees are assessed based on the level of amenities and services provided, cost of operations and maintenance, and market comparison. A market comparison of the nearby rental cabins with similar amenities shows that the proposed fees are reasonable and typical of similar sites in the area.

Funds from fees would be used for the continued operation and maintenance and improvements of these rental cabins.

DATES: Send any comments about these fee proposals by February 1, 2014 so comments can be compiled, analyzed and shared with the Utah Bureau of Land Management (BLM) Recreation Resource Advisory Committee (R-RAC). If this proposal is approved, it is anticipated that the cabin rentals would become available for overnight rental during the winter of 2014.

ADDRESSES: David C. Whittekiend, Forest Supervisor, Uinta-Wasatch-Cache National Forest, 857 W. South Jordan Parkway, South Jordan, UT 84095.

FOR FURTHER INFORMATION CONTACT: Charles Rosier, Cabin Rental program manager, 801-999-2103 or email at crosier@fs.fed.us. Information about proposed fee changes can also be found on the Uinta-Wasatch-Cache National Forest Web site: http://www.fs.usda.gov/uwcnf.

SUPPLEMENTARY INFORMATION: The Federal Recreation Lands Enhancement Act (Title VII, Pub. L. 108-447) directed the Secretary of Agriculture to publish a six month advance notice in the Federal Register whenever new recreation fee areas are established.

Once public involvement is complete, these new fees will be reviewed by the Utah BLM RRAC prior to a final decision and implementation by the Regional Forester, Intermountain Region, USDA Forest Service. People wanting reserve these cabins would need to do so through the National Recreation Reservation Service, at www.recreation.gov or by calling 1-877-444-6777 when it becomes available. The NRRS charges a $9 fee for internet reservations and $10 fee for phone reservations.

Dated: November 12, 2013.
David C. Whittekiend,
Forest Supervisor.

[FR Doc. 2013-27993 Filed 11-21-13; 8:45 am]

BILLING CODE 3410-11-P